NATIONAL ARCHIVES AND RECORDS ADMINISTRATION

NARA Draft Plan for Digitizing Archival Materials for Public Access; Request for Comment and Public Meeting

AGENCY: National Archives and Records Administration (NARA).

ACTION: Request for comment; notice of public meeting.

SUMMARY: NARA is seeking public comment on its draft Plan for Digitizing Archival Materials for Public Access, 2007-2016. The document is available at http://www.archives.gov/comment/digitizing-plan.html or from the contact listed in this notice.

DATES: Comments should be received by November 9, 2007.

A public meeting on the draft Plan will be held on October 4 at 10:30 a.m. See the ADDRESSES paragraph for additional information.

ADDRESSES: Comments should be submitted by e-mail to Vision@nara.gov or faxed to 301-837-0319.

The public meeting will be held at the Jefferson Room in the National Archives Building, Washington, DC 20408, on October 4, 2007 at 10:30 a.m. Please enter through the Constitution Avenue Special Events entrance (Constitution Ave., NW., between 7th and 9th Streets, NW.). Reservations are not required but space may be limited.

FOR FURTHER INFORMATION CONTACT: Nancy Allard at 301-837-1477 or Carla Patterson at 301-837-0993, or at Vision@nara.gov.

Dated: August 31, 2007.
Nancy Allard,
NARA Federal Register Liaison.

[FR Doc. E7-17729 Filed 9-7-07; 8:45 am]

BILLING CODE 7515-01-P